DEPARTMENT OF COMMERCE

International Trade Administration

[A-602-807, A-351-842, A-560-828, A-570-022, A-471-807]

Certain Uncoated Paper From Australia, Brazil, Indonesia, the People's Republic of China, and Portugal: Amended Final Affirmative Antidumping Determinations for Brazil and Indonesia and Antidumping Duty Orders

AGENCY: Enforcement and Compliance, International Trade Administration, Department of Commerce.

SUMMARY: Based on affirmative final determinations by the Department of Commerce (the Department) and the International Trade Commission (the ITC), the Department is issuing antidumping duty orders on certain uncoated paper from Australia, Brazil, Indonesia, the People's Republic of China (PRC), and Portugal. Also, as explained in this notice, the Department is amending its final affirmative determinations with respect to Brazil and Indonesia.

DATES: Effective Date: March 3, 2016.

FOR FURTHER INFORMATION CONTACT: Eve Wang at (202) 482-6231 (Australia), Julia Hancock at (202) 482-1394 (Brazil), Blaine Wiltse at (202) 482-6345 (Indonesia), Stephanie Moore at (202) 482-3692 (PRC), or Kabir Archuletta at (202) 482-2593 (Portugal), AD/CVD Operations, Enforcement and Compliance, International Trade Administration, U.S. Department of Commerce, 1401 Constitution Avenue NW., Washington, DC 20230.

SUPPLEMENTARY INFORMATION:

Background

In accordance with sections 735(d) and 777(i)(1) of the Tariff Act of 1930, as amended (the Act), and 19 CFR 351.210(c), on January 20, 2016, the Department published its affirmative final determinations in the less-than-fair-value (LTFV) investigations of certain uncoated paper from Australia, Brazil, Indonesia, the PRC, and Portugal.¹ On February 22, 2016, the ITC notified the Department of its affirmative determinations that an industry in the United States is materially injured within the meaning of section 735(b)(1)(A)(i) of the Act, by reason of the LTFV imports of certain uncoated paper from Australia, Brazil, Indonesia, the PRC, and Portugal and its determination that critical circumstances do not exist with respect to imports of subject merchandise from Australia that are subject to the Department's affirmative critical circumstances finding.²

¹ See Certain Uncoated Paper From Australia: Final Determination of Sales at Less Than Fair Value and Affirmative Final Determination of Critical Circumstances, In Part, 81 FR 3108 (January 20, 2016) (Australia Final); Certain Uncoated Paper From Brazil: Final Determination of Sales at Less Than Fair Value, 81 FR 3115 (January 20, 2016) (Brazil Final); Certain Uncoated Paper From Indonesia: Final Determination of Sales at Less Than Fair Value; 81 FR 3101 (January 20, 2016) (Indonesia Final); Certain Uncoated Paper From the People's Republic of China: Final Determination of Sales at Less Than Fair Value, 81 FR 3112 (January 20, 2016) (PRC Final); and Certain Uncoated Paper From Portugal: Final Determination of Sales at Less Than Fair Value and Final Negative Determination of Critical Circumstances, 81 FR 3105 (January 20, 2016) (Portugal Final).

² See Letter to Christian Marsh, Deputy Assistant Secretary of Commerce for Enforcement and Compliance, from Meredith Broadbent, Chairman of the U.S. International Trade Commission, regarding certain uncoated paper from Australia, Brazil, China, Indonesia, and Portugal (February 22, 2016) (ITC Letter). See also Certain Uncoated Paper from Australia, Brazil, China, Indonesia, and Portugal, USITC Investigation Nos. 701-TA-528-529 and 731-TA-1264-1268 (Final), USITC Publication 4592 (February 2016).

Scope of the Orders

The scope of these orders includes uncoated paper in sheet form; weighing at least 40 grams per square meter but not more than 150 grams per square meter; that either is a white paper with a GE brightness level ³ of 85 or higher or is a colored paper; whether or not surface-decorated, printed (except as described below), embossed, perforated, or punched; irrespective of the smoothness of the surface; and irrespective of dimensions (Certain Uncoated Paper).

³ One of the key measurements of any grade of paper is brightness. Generally speaking, the brighter the paper, the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

Specifically excluded from the scope are (1) paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the orders is dispositive.

Amendment to Final Determinations

A ministerial error is defined as an error in addition, subtraction, or other arithmetic function, clerical error resulting from inaccurate copying, duplication, or the like, and any other similar type of unintentional error which the Secretary considers ministerial.⁴

⁴ See section 735(e) of the Act.

Brazil Amended Final Determination

Pursuant to section 735(e) of the Act and 19 CFR 351.224(e) and (f), the Department is amending the Brazil Final to reflect the correction of a ministerial error it made in the final margin assigned to one of the respondents. In addition, because the Department calculated the “all-others” rate based on a weighted-average of the respondents' margins using publicly-ranged quantities for their sales of subject merchandise, we have revised the all-others rate.⁵

⁵ See the “Estimated Weighted-Average Dumping Margins” section below.

On January 19, 2016, Petitioners submitted a ministerial error allegation claiming that the Department made a ministerial error with regard to one of the respondent's bank charges, and the SAS programming which implemented the bank charge at issue. The Department reviewed the record and agrees that we made ministerial errors within the meaning of Section 735(e) and 19 CFR 351.224(f). Specifically, the Department made an unintentional error with regard to one of the respondent's bank charges and SAS programming which implemented the bank charge at issue.⁶ We have corrected these errors in this notice.

⁶ See Memorandum to Christian Marsh, Deputy Assistant Secretary for Antidumping and Countervailing Duty Operations, from Paul Walker, Program Manager, Office V, “Antidumping Duty Investigation of Certain Uncoated Paper from Brazil: Analysis of Ministerial Error Allegation,” dated concurrently with this notice.

Indonesia Amended Final Determination

Pursuant to section 735(e) of the Act and 19 CFR 351.224(e) and (f), the Department is amending the Indonesia Final to reflect the correction of ministerial errors it made in the final margin assigned to the sole cooperative respondent. In addition, because the Department applied the respondent's final margin to the “all-others” rate and further, relied on the highest transaction-specific dumping margin as adverse facts available, we have revised the other final rates.⁷

⁷ See the “Estimated Weighted-Average Dumping Margins” section below.

On January 19, 2016, PT Anugerah Kertas Utama/PT Riau Andalan Kertas/APRIL Fine Paper Macao Commercial Offshore Limited (collectively, APRIL) submitted timely filed allegations that the Department made ministerial errors in our final determination. On January 21, 2016, Petitioners submitted rebuttal comments on APRIL's allegations. APRIL alleged the Department made two ministerial errors in its final determination: The exclusion of APRIL's home market billing adjustments and an inconsistency in the Department's calculation of APRIL's difference in merchandise adjustment (DIFMER). The Department reviewed the record and agrees that we made ministerial errors within the meaning of section 735(e) of the Act and 19 CFR 351.224(f). Specifically, the Department made unintentional errors with regard to the exclusion of APRIL's home market billing adjustments and with regard to the calculation of APRIL's DIFMER.⁸ We have corrected these errors in this notice.

⁸ See Memorandum to Christian Marsh, Deputy Assistant Secretary for Antidumping and Countervailing Duty Operations, from Melissa G. Skinner, Director, Office II, “Less-Than-Fair-Value Investigation of Certain Uncoated Paper from Indonesia: Allegations of Ministerial Errors in the Final Determination,” dated February 17, 2016.

Antidumping Duty Orders

As stated above, on February 22, 2016, in accordance with section 735(d) of the Act, the ITC notified the Department of its final determinations in these investigations, in which it found material injury with respect to certain uncoated paper from Australia, Brazil, Indonesia, the PRC, and Portugal and its determination that critical circumstances do not exist with respect to imports of subject merchandise from Australia that are subject to the Department's affirmative critical circumstances finding.⁹ Therefore, in accordance with section 735(c)(2) of the Act, we are issuing these antidumping duty orders. Because the ITC determined that imports of certain uncoated paper from Australia, Brazil, Indonesia, the PRC, and Portugal are materially injuring a U.S. industry, unliquidated entries of such merchandise from Australia, Brazil, Indonesia, the PRC, and Portugal, entered or withdrawn from warehouse for consumption, are subject to the assessment of antidumping duties.

⁹ See ITC Letter.

Therefore, in accordance with section 736(a)(1) of the Act, the Department will direct U.S. Customs and Border Protection (CBP) to assess, upon further instruction by the Department, antidumping duties equal to the amount by which the normal value of the merchandise exceeds the export price (or constructed export price) of the merchandise, for all relevant entries of certain uncoated paper from Australia, Brazil, Indonesia, the PRC, and Portugal. Antidumping duties will be assessed on unliquidated entries of certain uncoated paper from Australia, Indonesia, the PRC, and Portugal entered, or withdrawn from warehouse, for consumption on or after August 26, 2015, and in the case of Brazil, on August 27, 2015, the date of publication of the preliminary determinations,¹⁰ but will not include entries occurring after the expiration of the provisional measures period and before publication of the ITC's final injury determination as further described below.

¹⁰ See Certain Uncoated Paper From Australia: Preliminary Determination of Sales at Less Than Fair Value, Negative Preliminary Determination of Critical Circumstances, and Postponement of Final Determination, 80 FR 51783 (August 26, 2015) (Australia Prelim); Certain Uncoated Paper From Brazil: Preliminary Determination of Sales at Less Than Fair Value and Postponement of Final Determination, 80 FR 52029 (August 27, 2015) (Brazil Prelim); Certain Uncoated Paper From Indonesia: Preliminary Determination of Sales at Less Than Fair Value and Postponement of Final Determination, 80 FR 51771 (August 26, 2015) (Indonesia Prelim); Certain Uncoated Paper From the People's Republic of China: Preliminary Determination of Sales at Less Than Fair Value and Postponement of Final Determination, 80 FR 51768 (August 26, 2015) (PRC Prelim); and Certain Uncoated Paper From Portugal: Preliminary Determination of Sales at Less Than Fair Value and Postponement of Final Determination, 80 FR 51777 (August 26, 2015) (Portugal Prelim).

Suspension of Liquidation

In accordance with section 735(c)(1)(B) of the Act, we will instruct CBP to continue to suspend liquidation on all relevant entries of certain uncoated paper from Australia, Brazil, Indonesia, the PRC, and Portugal. These instructions suspending liquidation will remain in effect until further notice.

We will also instruct CBP to require cash deposits equal to the amounts as indicated below. Accordingly, effective on the date of publication of the ITC's final affirmative injury determinations, CBP will require, at the same time as importers would normally deposit estimated duties on this subject merchandise, a cash deposit equal to the estimated weighted-average dumping margins listed below.¹¹ The relevant all-others and PRC-wide rates apply to all producers or exporters not specifically listed, as appropriate. For the purpose of determining cash deposit rates, the estimated weighted-average dumping margins for imports of subject merchandise from Indonesia and the PRC will be adjusted, as appropriate, for export subsidies found in the final determinations of the companion countervailing duty investigations of this merchandise imported from Indonesia and the PRC.12 13

¹¹ See section 736(a)(3) of the Act.

¹² See Indonesia Final, 81 FR 3103; see also, PRC Final, 81 FR, at 3114.

¹³ We are not adjusting the PRC rates for estimated domestic subsidy pass-through because there is no cost-to-price linkage to a subsidized program and, thus, we have no basis upon which to make such an adjustment in that case.

Provisional Measures

Section 733(d) of the Act states that instructions issued pursuant to an affirmative preliminary determination may not remain in effect for more than four months, except where exporters representing a significant proportion of exports of the subject merchandise request the Department to extend that four-month period to no more than six months. At the request of exporters that account for a significant proportion of certain uncoated paper from Australia, Brazil, Indonesia, the PRC, and Portugal, we extended the four-month period to six months in each case.¹⁴ In the underlying investigations, the Department published the preliminary determinations on August 26, 2015, and August 27, 2015. Therefore, the extended period, beginning on the date of publication of the preliminary determinations, ended on February 21, 2016, and in the case of Brazil, on February 22, 2016. Furthermore, section 737(b) of the Act states that definitive duties are to begin on the date of publication of the ITC's final injury determination.

¹⁴ See Australia Prelim, Brazil Prelim, Indonesia Prelim, PRC Prelim, and Portugal Prelim.

Therefore, in accordance with section 733(d) of the Act and our practice, we will instruct CBP to terminate the suspension of liquidation and to liquidate, without regard to antidumping duties, unliquidated entries of certain uncoated paper from Australia, Indonesia, the PRC, and Portugal entered, or withdrawn from warehouse, for consumption after February 21, 2016, and in the case of Brazil, on February 22, 2016, the dates on which the provisional measures expired, until and through the day preceding the date of publication of the ITC's final injury determinations in the Federal Register. Suspension of liquidation will resume on the date of publication of the ITC's final determination in the Federal Register.

Critical Circumstances

With regard to the ITC's negative critical circumstances determination on imports of subject merchandise from Australia, we will instruct CBP to lift suspension and to refund any cash deposits made to secure the payment of estimated antidumping duties with respect to entries of subject merchandise entered, or withdrawn from warehouse, for consumption on or after May 28, 2015 (i.e., 90 days prior to the date of publication of the Australia Prelim), but before August 26, 2015, (i.e., the date of publication of the Australia Prelim).

Estimated Weighted-Average Dumping Margins

The weighted-average antidumping duty margin percentages are as follows:

¹⁵ The Department determined that International Paper do Brasil Ltda. and International Paper Exportadora Ltda. constituted a single entity. See Brazil Final, 81 FR, at 3116.

Exporter/manufacturer | Weighted- average dumping margin (percent)
Australia:
Paper Australia Pty. Ltd | 222.46
All Others | 138.87
Brazil:
International Paper do Brasil Ltda. and International Paper Exportadora Ltda.¹⁵ | 41.39
Suzano Papel e Celulose S.A | 22.37
All Others | 27.11

| Exporter/ manufacturer | Weighted- average dumping margin (percent) | Cash deposit
Indonesia:
Great Champ Trading Limited | 17.46 | 0.00
Indah Kiat Pulp & Paper TBK/Pabrik Kertas Tjiwi Kimia/PT. Pindo Deli Pulp and Paper Mills (APP/SMG) | 17.46 | 0.00
April Fine Paper Macao Commercial OffShore Limited/PT Anugerah Kertas Utama/PT Riau Andalan Kertas (APRIL) | 2.10 | 2.10
All Others | 2.10 | 2.10
Note: The cash deposit rates are adjusted to account for the applicable export subsidy rate of 51.75 percent for Great Champ Trading Limited and APP/SMG.

Exporter | Producer | Weighted- average dumping margin (percent) | Cash deposit
PRC:
Greenpoint Global Trading (Macao Commercial Offshore) Ltd. | Asia Symbol (Guangdong) Paper Co., Ltd.; and Asia Symbol (Shangong) Pulp & Paper Co., Ltd | 84.05 | 83.92
PRC-Wide Entity | 149.00 | 148.87
Note: The cash deposit rates are adjusted to account for the applicable export subsidy rate of 0.13 percent for Asia Symbol and the PRC-Wide Entity.

Exporter/manufacturer | Weighted- average dumping margin (percent)
Portugal:
Portucel S.A.¹⁶ | 7.80
All-Others | 7.80

This notice constitutes the antidumping duty orders with respect to certain uncoated paper from Australia, Brazil, Indonesia, the PRC, and Portugal pursuant to section 736(a) of the Act. Interested parties can find a list of antidumping duty orders currently in effect at http://enforcement.trade.gov/stats/iastats1.html.

¹⁶ In Portugal Final, we determined to treat several companies as a single entity with Portucel S.A.

These orders are published in accordance with section 736(a) of the Act and 19 CFR 351.211(b).

Dated: February 25, 2016.
Paul Piquado,
Assistant Secretary for Enforcement and Compliance.

[FR Doc. 2016-04699 Filed 3-2-16; 8:45 am]

BILLING CODE 3510-DS-P